DEPARTMENT OF ENERGY

Federal Energy Regulatory Commission

Combined Notice of Filings #1

Take notice that the Commission received the following electric corporate filings:

Docket Numbers: EC08-126-001.

Applicants: LS Power Development, LLC, Luminus Management, LLC.

Description: Request for Suspension of Reporting Obligations, LS Power Development, LLC and Luminus Management, LLC.

Filed Date: 5/11/16.

Accession Number: 20160511-5306.

Comments Due: 5 p.m. ET 5/26/16.

Take notice that the Commission received the following exempt wholesale generator filings:

Docket Numbers: EG16-98-000.

Applicants: Paulding Wind Farm III LLC.

Description: Self-Certification of EWG of Paulding Wind Farm III LLC.

Filed Date: 5/13/16.

Accession Number: 20160513-5046.

Comments Due: 5 p.m. ET 6/3/16.

Take notice that the Commission received the following electric rate filings:

Docket Numbers: ER10-2331-055; ER10-2319-046; ER10-2317-046; ER13-1351-028; ER10-2330-053.

Applicants: J.P. Morgan Ventures Energy Corporation, BE Alabama LLC, BE CA LLC, Florida Power Development LLC, Utility Contract Funding, L.L.C.

Description: Notice of Non-Material Change in Status of the JPMorgan Sellers.

Filed Date: 5/12/16.

Accession Number: 20160512-5259.

Comments Due: 5 p.m. ET 6/2/16.

Docket Numbers: ER16-1331-001.

Applicants: Southwest Power Pool, Inc.

Description: Tariff Amendment: Amended Filing-Clarify Process to Study Requests for Short-Term Service to be effective 5/31/2016.

Filed Date: 5/13/16.

Accession Number: 20160513-5047.

Comments Due: 5 p.m. ET 6/3/16.

Docket Numbers: ER16-1689-000.

Applicants: ArcelorMittal Cleveland LLC.

Description: Baseline eTariff Filing: Petition for Acceptance of Market-Based Rate to be effective 6/30/2016.

Filed Date: 5/13/16.

Accession Number: 20160513-5001.

Comments Due: 5 p.m. ET 6/3/16.

Docket Numbers: ER16-1690-000.

Applicants: Public Service Company of Colorado.

Description: Compliance filing: 20160513 ER16-524 CSU Renewable Energy Credits to be effective 4/16/2016.

Filed Date: 5/13/16.

Accession Number: 20160513-5070.

Comments Due: 5 p.m. ET 6/3/16.

Docket Numbers: ER16-1691-000.

Applicants: Escalante Solar III, LLC.

Description: Compliance filing: Comp. Filing—Amendment to MBR Tariff Limits. and Exemptions to be effective 7/12/2016.

Filed Date: 5/13/16.

Accession Number: 20160513-5072.

Comments Due: 5 p.m. ET 6/3/16.

Docket Numbers: ER16-1692-000.

Applicants: Arizona Public Service Company.

Description: Section 205(d) Rate Filing: Rate Schedule Nos. 44, 98, 211—Four Corners Acquisition to be effective 12/31/9998.

Filed Date: 5/13/16.

Accession Number: 20160513-5076.

Comments Due: 5 p.m. ET 6/3/16.

Docket Numbers: ER16-1693-000.

Applicants: Arizona Public Service Company.

Description: Section 205(d) Rate Filing: Reassignment of Service Agreement Nos. 350, 351 and 352 to be effective 4/15/2016.

Filed Date: 5/13/16.

Accession Number: 20160513-5077.

Comments Due: 5 p.m. ET 6/3/16.

Take notice that the Commission received the following electric securities filings:

Docket Numbers: ES16-35-000.

Applicants: MDU Resources Group, Inc.

Description: Application of MDU Resources Group, Inc. for Authorization to issue securities for the Long-Term Performance Based Incentive Plan.

Filed Date: 5/12/16.

Accession Number: 20160512-5266.

Comments Due: 5 p.m. ET 6/2/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 13, 2016.
Nathaniel J. Davis, Sr.,
Deputy Secretary.

[FR Doc. 2016-11886 Filed 5-19-16; 8:45 am]

BILLING CODE 6717-01-P